DEPARTMENT OF TRANSPORTATION

Federal Aviation Administration

14 CFR Part 39

[Docket No. FAA-2012-1075; Directorate Identifier 2012-NM-111-AD]

RIN 2120-AA64

Airworthiness Directives; Bombardier, Inc. Airplanes

AGENCY: Federal Aviation Administration (FAA), DOT.

ACTION: Supplemental notice of proposed rulemaking (NPRM); reopening of comment period.

SUMMARY: We are revising an earlier proposed airworthiness directive (AD) for certain Bombardier, Inc. Model CL-600-2B19 (Regional Jet Series 100 & 440) airplanes. The NPRM proposed to require revising the maintenance or inspection program to incorporate revised tasks specified in certain temporary revisions (TRs) to the airplane airworthiness limitations (AWLs). The NPRM was prompted by the need for more stringent inspection requirements for certain affected components. This action revises the NPRM by proposing to require revising the maintenance or inspection program to incorporate certain revised AWL tasks instead of TRs, and by proposing to require repairs of affected components. We are proposing this supplemental NPRM (SNPRM) to detect and correct fatigue cracking in the affected components, which could result in loss of structural integrity. Since these actions impose an additional burden over those proposed in the NPRM, we are reopening the comment period to allow the public the chance to comment on these proposed changes.

DATES: We must receive comments on this SNPRM by December 11, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Bombardier, Inc., 400 Côte-Vertu Road West, Dorval, Québec H4S 1Y9, Canada; telephone 514-855-5000; fax 514-855-7401; email thd.crj@aero.bombardier.com; Internet http://www.bombardier.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2012-1075; or in person at the Docket Management Facility between 9 a.m. and 5 p.m., Monday through Friday, except Federal holidays. The AD docket contains this proposed AD, the regulatory evaluation, any comments received, and other information. The street address for the Docket Office (telephone: 800-647-5527) is in the ADDRESSES section. Comments will be available in the AD docket shortly after receipt.

FOR FURTHER INFORMATION CONTACT: Jeffrey Zimmer, Aerospace Engineer, Airframe and Mechanical Systems Branch, ANE-171, FAA, New York Aircraft Certification Office, 1600 Stewart Avenue, Suite 410, Westbury, NY 11590; telephone 516-228-7306; fax 516-794-5531.

SUPPLEMENTARY INFORMATION:

Comments Invited

We invite you to send any written relevant data, views, or arguments about this proposed AD. Send your comments to an address listed under the ADDRESSES section. Include “Docket No. FAA-2012-1075; Directorate Identifier 2012-NM-111-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued a notice of proposed rulemaking (NPRM) to amend 14 CFR part 39 by adding an AD that would apply to certain Bombardier, Inc. Model CL-600-2B19 (Regional Jet Series 100 & 440) airplanes. The NPRM published in the Federal Register on October 16, 2012 (77 FR 63282). The NPRM was prompted by a revision to the airplane AWLs to introduce more stringent inspection requirements on certain affected components. The NPRM proposed to require revising the maintenance or inspection program to incorporate revised AWL tasks specified in certain TRs.

Actions Since Previous NPRM (77 FR 63282, October 16, 2012) Was Issued

Since we issued the NPRM (77 FR 63282, October 16, 2012), we have determined that a repair requirement should be added to this SNPRM to correct fatigue cracking in the affected components.

Related Service Information Under 1 CFR Part 51

Bombardier Inc. has issued the following AWLs.

• AWL 52-11-131, “Passenger door—piano hinge half on door side,” of Appendix B—Airworthiness Limitations, of Part 2 Airworthiness Requirements, Revision 9, dated June 10, 2013, of the Bombardier CL-600-2B19 Maintenance Requirements Manual (MRM) CSP A-053. This AWL describes procedures for a detailed visual inspection of the piano hinge half on the passenger door side.

• AWL 53-11-122, “Windshield center post and bulkhead aft post at FS202.75,” of Appendix B—Airworthiness Limitations, of Part 2 Airworthiness Requirements, Revision 9, dated June 10, 2013, of the Bombardier CL-600-2B19 MRM CSP A-053. This AWL describes procedures for a special detailed inspection of the windshield center post and bulkhead aft post at fuselage station (FS) 202.75.

• AWL 53-21-118, “Potable water servicing door cut-out and internal structure,” of Appendix B—Airworthiness Limitations, of Part 2 Airworthiness Requirements, Revision 9, dated June 10, 2013, of the Bombardier CL-600-2B19 MRM CSP A-053. This AWL describes procedures for a detailed visual inspection of the potable water servicing door cut-out and internal structure.

• AWL 53-21-129, “Passenger door—piano hinge half on fuselage side,” of Appendix B—Airworthiness Limitations, of Part 2 Airworthiness Requirements, Revision 9, dated June 10, 2013, of the Bombardier CL-600-2B19 MRM CSP A-053. This AWL describes procedures for a detailed visual inspection of the piano hinge half of the passenger door on the fuselage side.

• AWL 53-41-199, “FS409.0 +128 vertical posts at BL0.0 and BL18.0 left and right local to WL69.0,” of Appendix B—Airworthiness Limitations, of Part 2 Airworthiness Requirements, Revision 9, dated June 10, 2013, of the Bombardier CL-600-2B19 MRM CSP A-053. This AWL describes procedures for a special detailed inspection of the FS409.0 +128 left and right vertical posts at buttock line (BL) 0.0 and BL18.0 local to water line (WL) 69.0.

• AWL 53-41-200, “FS409.0 +128 frame cap aft and fwd splice angles at STR21 left and right,” of Appendix B—Airworthiness Limitations, of Part 2 Airworthiness Requirements, Revision 9, dated June 10, 2013, of the Bombardier CL-600-2B19 MRM CSP A-053. This AWL describes procedures for a detailed visual inspection of the FS409.0 +128 frame cap aft and forward splice angles at stringer 21.

• AWL 53-41-201, “FS559.0 pressure bulkhead web and cap angle local to BL9.0 and BL18.0 left and right,” of Appendix B—Airworthiness Limitations, of Part 2 Airworthiness Requirements, Revision 9, dated June 10, 2013, of the Bombardier CL-600-2B19 MRM CSP A-053. This AWL describes procedures for a special detailed inspection of the left and right FS559.0 pressure bulkhead web and cap angle local to BL9.0 and BL18.0.

• AWL 53-61-156, “Rear pressure bulkhead forward face below floor,” of Appendix B—Airworthiness Limitations, of Part 2 Airworthiness Requirements, Revision 9, dated June 10, 2013, of the Bombardier CL-600-2B19 MRM CSP A-053. This AWL describes procedures for a special detailed inspection of the below floor forward face of the rear pressure bulkhead.

• AWL 54-10-105, “Pylon track and support fitting,” of Appendix B—Airworthiness Limitations, of Part 2 Airworthiness Requirements, Revision 9, dated June 10, 2013, of the Bombardier CL-600-2B19 MRM CSP A-053. This AWL describes procedures for a special detailed inspection of the pylon track and support fitting.

• AWL 54-10-106, “Pylon track and support fitting,” of Appendix B—Airworthiness Limitations, of Part 2 Airworthiness Requirements, Revision 9, dated June 10, 2013, of the Bombardier CL-600-2B19 MRM CSP A-053. This AWL describes procedures for a special detailed inspection of the pylon track and support fitting.

• AWL 57-21-105, “Lower wing skin, between BL0.0 to wing station (WS) 314.0,” of Appendix B—Airworthiness Limitations, of Part 2 Airworthiness Requirements, Revision 9, dated June 10, 2013, of the Bombardier CL-600-2B19 MRM CSP A-053. This AWL describes procedures for a detailed visual inspection of the lower wing skin, between BL0.0 to WS314.0.

• AWL 57-21-112, “Lower wing plank splice joints at BL45.0, WS65.75, and WS148.0,” of Appendix B—Airworthiness Limitations, of Part 2 Airworthiness Requirements, Revision 9, dated June 10, 2013, of the Bombardier CL-600-2B19 MRM CSP A-053. This AWL describes procedures for a special detailed inspection of the lower wing plank splice joints at BL45.0, WS65.75, and WS148.0.

This service information is reasonably available because the interested parties have access to it through their normal course of business or by the means identified in the ADDRESSES section of this SNPRM.

Comments

We gave the public the opportunity to participate in developing this proposed AD. We considered the comments received.

Requests To Reduce the Number of Inspections

Skywest Airlines (Skywest) and Expressjet Airlines (Expressjet) requested that we reduce the number of inspections proposed by the NPRM (77 FR 63282, October 16, 2012) by specifying the AWLs in lieu of the TRs referenced in the NPRM. Skywest and Expressjet stated that many of the TRs have already been incorporated into the maintenance program; the proposed requirements would therefore create difficulty in tracking TRs for compliance because of the many anticipated alternative methods of compliance (AMOCs) that would be needed. Expressjet stated that the large number of proposed inspections will create a significant burden on the operator.

Bombardier requested that we specify the AWLs and cited an example of two TRs issued for the same AWL.

Air Wisconsin (AWI) provided specific references to TRs that have been superseded by subsequently published TRs and requested that we revise the NPRM (77 FR 63282, October 16, 2012) to reference revised TRs that address the identified AWLs.

We agree with the commenters' requests to specify the AWLs instead of the TRs. The entirety of each TR does not need to be mandated. By specifying the AWLs, we also eliminate AWI's concern over TRs that have been superseded. We have revised paragraph (g) of this SNPRM to remove the TRs and specify the AWLs that we propose to be incorporated into the maintenance or inspection program, as applicable.

Request To Change Compliance Times for Tasks Without Phase-in Schedules

AWI requested that, for those tasks without specific phase-in schedules, we change the compliance times to the times specified in the applicable TR, or “within 1,000 flight cycles after the effective date of this AD,” whichever occurs later. AWI stated that although most of the tasks have phase-in schedules, some do not; therefore, the ability to perform these tasks on an entire fleet within the 60 days specified in the NPRM (77 FR 63282, October 16, 2012) may not be realistic.

We agree with the commenter's request to specify phase-in schedules for the AWL tasks without specific phase-in schedules. As stated previously, we revised paragraph (g) of this SNPRM to reference the AWLs in lieu of the TRs. We revised paragraph (h) of this SNPRM to specify where to locate compliance times for tasks with phase-in schedules and for those without phase-in schedules. In addition, new paragraph (h)(2) of this SNPRM provides a grace period of “within 1,000 flight cycles after the effective date of this AD.”

Requests Regarding Previously Approved Repairs

AWI requested that we approve AMOCs for the intervals and/or methods contained in technical repair data, e.g., repair engineering orders (REOs) or generic repair engineering orders (GREOs) that have been approved previously by Transport Canada Civil Aviation (TCCA). AWI stated that many of these TCCA-approved REOs or GREOs have alternative inspection intervals that differ from the applicable AWL tasks stated in the TRs or the tasks contained within Appendix B—Airworthiness Limitations, of Part 2, Airworthiness Requirements, of the Bombardier CL-600-2B19 MRM CSP A-053.

Skywest and Expressjet requested that we allow previous AWL task repairs that have been approved by Bombardier, Inc.'s TCCA Design Approval Organization (DAO) in the inspection areas. Skywest and Expressjet stated that this will reduce the number of AMOCs needed for previous repairs.

We agree with the commenters' requests regarding previously approved repairs. We agree to include a provision in this SNPRM to allow for previously approved repairs in the inspection area that were approved by the Manager, New York Aircraft Certification Office, ANE-170, FAA; or TCCA; or Bombardier, Inc.'s TCCA DAO. We have added this provision in paragraph (k) of this SNPRM.

Request To Use Future Revisions of AWLs

Expressjet requested that we allow the use of future revisions of the identified AWL tasks, provided they are approved by TCCA.

We disagree to allow the use of future revisions of the identified AWL tasks as a method of compliance with this SNPRM. When referring to a specific document in an AD, using the phrase “or later approved revisions” violates Office of the Federal Register (OFR) regulations for approving materials that are incorporated by reference in rules. See 1 CFR 51.1(f). In general terms, we are required by these OFR regulations to either publish the service document contents as part of the actual AD language, or submit the service document to the OFR for approval as “referenced” material. In the latter case, we may only refer to such material in the text of an AD; the AD may refer to the service document only if the OFR approved it for incorporation by reference.

To allow operators to use later revisions of the referenced document (issued after publication of the AD), either we must revise the AD to reference specific later revisions, or operators must request approval to use later revisions as an AMOC under the provisions of paragraph (k) of this SNPRM. Therefore, affected operators may request approval to use a later revision of the referenced AWL tasks as an AMOC using the procedures specified in paragraph (k) of this SNPRM provided an adequate level of safety is maintained. We have not changed this SNPRM in this regard.

Request To Permit Removal of TR From Bombardier CL-600-2B19 MRM

Skywest requested that we permit removal of the TR when the required maintenance action is incorporated into an MRM revision. Skywest stated that referring to each TR becomes problematic because a standard revision of the MRM, when published, states that the incorporated TRs are to be removed and discarded.

As stated previously, we have revised paragraph (g) of this SNPRM to remove the TRs and specify the AWLs that we propose to be incorporated into the maintenance or inspection program, as applicable. Therefore, it is unnecessary to change this SNPRM in this regard.

FAA's Determination and Requirements of This SNPRM

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Certain changes described above expand the scope of the NPRM (77 FR 63282, October 16, 2012). As a result, we have determined that it is necessary to reopen the comment period to provide additional opportunity for the public to comment on this SNPRM.

This SNPRM proposes to require revisions to certain operator maintenance documents to include new inspections. Compliance with these inspections is required by section 91.403(c) of the Federal Aviation Regulations (14 CFR 91.403(c)). For airplanes that have been previously modified, altered, or repaired in the areas addressed by these inspections, an operator might not be able to accomplish the inspections described in the revisions. In this situation, to comply with 14 CFR 91.403(c), the operator must request approval of an AMOC in accordance with the provisions of paragraph (k) of this SNPRM. The request should include a description of changes to the required inspections that will ensure the continued damage tolerance of the affected structure.

Costs of Compliance

We estimate that this SNPRM affects 575 airplanes of U.S. registry.

We estimate that it would take about 1 work-hour per product to comply with the requirements of this SNPRM. The average labor rate is $85 per work-hour. Based on these figures, we estimate the cost of this SNPRM on U.S. operators to be $48,875, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bombardier, Inc.: Docket No. FAA-2012-1075; Directorate Identifier 2012-NM-111-AD.

(a) Comments Due Date

We must receive comments by December 11, 2015.

(b) Affected ADs

None.

(c) Applicability

This AD applies to Bombardier, Inc. Model CL-600-2B19 (Regional Jet Series 100 & 440) airplanes, certificated in any category, serial numbers 7003 and subsequent.

(d) Subject

Air Transport Association (ATA) of America Code 05, Periodic inspections.

(e) Reason

This AD was prompted by a revision to the airplane airworthiness limitations (AWLs) to introduce more stringent inspection requirements on certain affected components. We are issuing this AD to detect and correct fatigue cracking in the affected components and consequent loss of structural integrity.

(f) Compliance

Comply with this AD within the compliance times specified, unless already done.

(g) Maintenance Program or Inspection Program Revision

Within 60 days after the effective date of this AD: Revise the maintenance or inspection program, as applicable, to incorporate the revised inspection requirements specified in the AWLs identified in paragraphs (g)(1) through (g)(12) of this AD.

(1) AWL 52-11-131, “Passenger door—piano hinge half on door side,” of Appendix B—Airworthiness Limitations, of Part 2, Airworthiness Requirements, Revision 9, dated June 10, 2013, of the Bombardier CL-600-2B19 Maintenance Requirements Manual (MRM) CSP A-053.

(2) AWL 53-11-122, “Windshield center post and bulkhead aft post at FS202.75,” of Appendix B—Airworthiness Limitations, of Part 2, Airworthiness Requirements, Revision 9, dated June 10, 2013, of the Bombardier CL-600-2B19 MRM CSP A-053.

(3) AWL 53-21-118, “Potable water servicing door cut-out and internal structure,” of Part 2, Airworthiness Requirements, Revision 9, dated June 10, 2013, of the Bombardier CL-600-2B19 MRM CSP A-053.

(4) AWL 53-21-129, “Passenger door—piano hinge half on fuselage side,” of Appendix B—Airworthiness Limitations, of Part 2, Airworthiness Requirements, Revision 9, dated June 10, 2013, of the Bombardier CL-600-2B19 MRM CSP A-053.

(5) AWL 53-41-199, “FS409.0 + 128 vertical posts at BL0.0 and BL18.0 left and right local to WL69.0,” of Appendix B—Airworthiness Limitations, of Part 2, Airworthiness Requirements, Revision 9, dated June 10, 2013, of the Bombardier CL-600-2B19 MRM CSP A-053.

(6) AWL 53-41-200, “FS409.0 + 128 frame cap aft and fwd splice angles at STR21 left and right,” of Appendix B—Airworthiness Limitations, of Part 2, Airworthiness Requirements, Revision 9, dated June 10, 2013, of the Bombardier CL-600-2B19 MRM CSP A-053.

(7) AWL 53-41-201, “FS559.0 pressure bulkhead web and cap angle local to BL9.0 and BL18.0 left and right,” of Appendix B—Airworthiness Limitations, of Part 2, Airworthiness Requirements, Revision 9, dated June 10, 2013, of the Bombardier CL-600-2B19 MRM CSP A-053.

(8) AWL 53-61-156, “Rear pressure bulkhead forward face below floor,” of Appendix B—Airworthiness Limitations, of Part 2, Airworthiness Requirements, Revision 9, dated June 10, 2013, of the Bombardier CL-600-2B19 MRM CSP A-053.

(9) AWL 54-10-105, “Pylon track and support fitting,” of Appendix B—Airworthiness Limitations, of Part 2, Airworthiness Requirements, Revision 9, dated June 10, 2013, of the Bombardier CL-600-2B19 MRM CSP A-053.

(10) AWL 54-10-106, “Pylon track and support fitting,” of Appendix B—Airworthiness Limitations, of Part 2, Airworthiness Requirements, Revision 9, dated June 10, 2013, of the Bombardier CL-600-2B19 MRM CSP A-053.

(11) AWL 57-21-105, “Lower wing skin, between BL0.0 to WS314.0,” of Appendix B—Airworthiness Limitations, of Part 2, Airworthiness Requirements, Revision 9, dated June 10, 2013, of the Bombardier CL-600-2B19 MRM CSP A-053.

(12) AWL 57-21-112, “Lower wing plank splice joints at BL45.0, WS65.75, and WS148.0,” of Appendix B—Airworthiness Limitations, of Part 2, Airworthiness Requirements, Revision 9, dated June 10, 2013, of the Bombardier CL-600-2B19 MRM CSP A-053.

(h) Initial Compliance Times for AWL Tasks

(1) For tasks with phase-in schedules specified in the AWLs identified in paragraphs (g)(1) through (g)(12) of this AD: The initial compliance times are at the applicable times specified in the applicable AWL, or within 60 days after the effective date of this AD, whichever occurs later, except as specified in paragraph (h)(2) of this AD.

(2) For tasks with no phase-in schedules specified in the AWLs identified in paragraphs (g)(1) through (g)(12) of this AD: The initial compliance times are at the applicable times specified in Appendix B—Airworthiness Limitations, of Part 2, Airworthiness Requirements, Revision 9, dated June 10, 2013, of the Bombardier CL-600-2B19 MRM CSP A-053, or within 1,000 flight cycles after the effective date of this AD, whichever occurs later.

(i) Corrective Action

If any damage (including, but not limited to, cracking, corrosion, and wear) is found during any inspection required by any AWL specified in paragraph (g) of this AD: Before further flight, repair using a method approved by the Manager, New York Aircraft Certification Office (ACO), ANE-170, FAA; or Transport Canada Civil Aviation (TCCA); or Bombardier, Inc.'s TCCA Design Approval Organization (DAO).

(j) No Alternative Actions or Intervals

After accomplishing the revisions required by paragraph (g) of this AD, no alternative actions (e.g., inspections) or intervals may be used other than those specified in the AWLs identified in paragraphs (g)(1) through (g)(12) of this AD; unless the actions and intervals are approved as an alternative method of compliance (AMOC) in accordance with the procedures specified in paragraph (k) of this AD, or the actions and intervals are approved as part of a repair specified in paragraph (i) of this AD.

(k) Other FAA AD Provisions

The following provisions also apply to this AD:

(1) Alternative Methods of Compliance (AMOCs): The Manager, New York ACO, ANE-170, FAA, has the authority to approve AMOCs for this AD, if requested using the procedures found in 14 CFR 39.19. In accordance with 14 CFR 39.19, send your request to your principal inspector or local Flight Standards District Office, as appropriate. If sending information directly to the manager of the ACO, send it to ATTN: Program Manager, Continuing Operational Safety, FAA, New York ACO, 1600 Stewart Avenue, Suite 410, Westbury, NY 11590; telephone: 516-228-7300; fax: 516-794-5531. Before using any approved AMOC, notify your appropriate principal inspector, or lacking a principal inspector, the manager of the local flight standards district office/certificate holding district office. The AMOC approval letter must specifically reference this AD.

(2) Previously Approved Repairs: Repairs approved before the effective date of this AD that meet the conditions specified in paragraphs (k)(2)(i), (k)(2)(ii), and (k)(2)(iii) of this AD are acceptable methods of compliance for the repaired area.

(i) The repairs were accomplished using a method approved by the Manager, New York ACO, ANE-170, FAA; or TCCA; or Bombardier, Inc.'s TCCA DAO.

(ii) The repair approval refers to MCAI Canadian Airworthiness Directive CF-2012-13, dated April 10, 2012, and provides an inspection program (inspection threshold, method, and repetitive interval).

(iii) The operator has revised its maintenance or inspection program, as applicable, to include the inspection program (inspection threshold, method, and repetitive interval) for the repair.

(3) Contacting the Manufacturer: For any requirement in this AD to obtain corrective actions from a manufacturer, the action must be accomplished using a method approved by the Manager, New York ACO, ANE-170, FAA; or TCCA; or Bombardier, Inc.'s TCCA DAO. If approved by the DAO, the approval must include the DAO-authorized signature.

(l) Related Information

(1) Refer to Mandatory Continuing Airworthiness Information (MCAI) Canadian Airworthiness Directive CF-2012-13, dated April 10, 2012, for related information. You may examine the MCAI in the AD docket on the Internet at http://www.regulations.gov/#!documentDetail;D=FAA-2013-0597-0002.

(2) For service information identified in this AD, contact Bombardier, Inc., 400 Côte-Vertu Road West, Dorval, Québec H4S 1Y9, Canada; telephone 514-855-5000; fax 514-855-7401; email thd.crj@aero.bombardier.com; Internet http://www.bombardier.com. You may view this service information at the FAA, Transport Airplane Directorate, 1601 Lind Avenue SW., Renton, WA. For information on the availability of this material at the FAA, call 425-227-1221.

Issued in Renton, Washington, on October 6, 2015.
Jeffrey E. Duven,
Manager, Transport Airplane Directorate, Aircraft Certification Service.

[FR Doc. 2015-27267 Filed 10-26-15; 8:45 am]

BILLING CODE 4910-13-P